DEPARTMENT OF HEALTH AND HUMAN SERVICES

Centers for Disease Control and Prevention (CDC)

Advisory Committee on Childhood Lead Poisoning Prevention (ACCLPP)

Correction: This notice was published in the Federal Register on October 6, 2011, Volume 76, Number 194, page 62071. Contact information changed to delete Nikki Walker's name and telephone number and replaced with Tiffany Turner's name and telephone number.

CONTACT PERSONS FOR MORE INFORMATION: Claudine Johnson, Program Operation Assistant or Tiffany Turner, Healthy Homes and Lead Poisoning Prevention Branch, Division of Environmental Emergency Health Services, NCEH, CDC, 4770 Buford Highway, NE., Mailstop F-60, Atlanta, Georgia 30341, telephone (770) 488-3629; Tiffany Turner (770) 488-0554; fax (770) 488-3635.

The Director, Management Analysis and Services Office has been delegated the authority to sign Federal Register notices pertaining to announcements of meetings and other committee management activities, for both the Centers for Disease Control and Prevention, and the Agency for Toxic Substances and Disease Registry.

Dated: October 17, 2011.
Elaine L. Baker,
Director, Management Analysis and Services Office, Centers for Disease Control and Prevention.

[FR Doc. 2011-27396 Filed 10-21-11; 8:45 am]

BILLING CODE 4163-18-P